DEPARTMENT OF COMMERCE

National Oceanic and Atmospheric Administration

Agency Information Collection Activities; Submission to the Office of Management and Budget (OMB) for Review and Approval; Comment Request; North Pacific Observer Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before December 13, 2021.

ADDRESSES: Interested persons are invited to submit written comments to Adrienne Thomas, NOAA PRA Officer, at Adrienne.thomas@noaa.gov. Please reference OMB Control Number 0648-0318 in the subject line of your comments. Do not submit Confidential Business Information or otherwise sensitive or protected information.

FOR FURTHER INFORMATION CONTACT: Requests for additional information or specific questions related to collection activities should be directed to Gabrielle Aberle, 907-586-7228.

SUPPLEMENTARY INFORMATION:

I. Abstract

The National Marine Fisheries Service (NMFS), Alaska Regional Office, is requesting renewal of a currently approved information collection that contains requirements for the North Pacific Observer Program (Observer Program). A slight revision is requested to change the title of the collection from “Alaska Observer Program” to “North Pacific Observer Program.”

Section 313 of the Magnuson-Stevens Act (16 U.S.C. 1862) authorizes the North Pacific Fishery Management Council (Council), in consultation with NMFS, to prepare a fishery research plan for the purpose of stationing observers and electronic monitoring (EM) systems to collect data necessary for the conservation, management, and scientific understanding of the commercial groundfish and Pacific halibut fisheries of the Bering Sea and Aleutian Islands (BSAI) and Gulf of Alaska (GOA) management areas. The Observer Program is implemented by regulations at subpart E of 50 CFR part 679, which authorize the deployment of observers and EM to collect information necessary for the conservation and management of the BSAI and GOA groundfish and halibut fisheries. Under the Observer Program, observers and EM systems collect fishery-dependent information used to estimate total catch and interactions with protected species. Managers use this data to manage groundfish and prohibited species catch within established limits and to document and reduce fishery interactions with protected species. Scientists use this data to assess fish stocks, provide data for fisheries and ecosystem research and fishing fleet behavior, assess marine mammal interactions with fishing gear, and characterize fishing impacts on habitat.

All vessels and processors that participate in federally managed or parallel groundfish and halibut fisheries off Alaska (except catcher vessels delivering unsorted codends to a mothership) are subject to Observer Program requirements and assigned to one of two categories: (1) The full observer coverage category, where vessels and processors obtain observer coverage by contracting directly with observer providers; or (2) the partial coverage category, where NMFS, in consultation with the Council determines when and where observer coverage is needed. Some vessels and processors may be in full coverage for part of the year and partial coverage at other times of the year depending on the observer coverage requirements for specific fisheries. Funds for deploying observers on vessels in the partial coverage category are provided through a system of fees based on the gross ex-vessel value of retained groundfish and halibut. This observer fee is assessed on all landings by vessels that are not otherwise in full coverage. The observer fee is approved under OMB Control Number 0648-0711.

Information in this collection is submitted by observer provider companies and owners and operators of vessels and processors subject to Observer Program requirements. Information submitted by owners and operators includes information on owner identification, vessels, observer coverage category, deck safety, the EM system, fishing trips, and fishing operations. Information submitted by observer provider companies includes information on ownership and operations; observers and observer candidates; observer deployment; insurance coverage; contracts with observers, vessels, and processors; costs for observer services; and other information including possible observer harassment, prohibited actions, safety concerns, observer illness or injury preventing the observer from completing duties, and any information, allegation, or reports regarding observer conflict of interest or breach of the standards of behavior. Observers, observer provider companies, and industry may submit information on improving observer data quality and resolving observer sampling issues.

More information on the Observer Program is provided on the NMFS Alaska Region website at https://www.fisheries.noaa.gov/alaska/fisheries-observers/north-pacific-observer-program.

II. Method of Collection

Methods of submittal consist of online web applications, email, email attachments, verbal communication by telephone or in person, and on paper by mail or fax. The Observer Declare and Deploy System (ODDS) is an internet-based system that is used by vessel owners and operators in the partial coverage category. ODDS is available online at https://apps-afsc.fisheries.noaa.gov/ords/f?p=140:1 or by phone at 1-855-747-6377. Copies of observer coverage category request forms are available on the NMFS Alaska Region website at https://www.fisheries.noaa.gov/resource/tool-app/observer-deploy-and-declare-system-odds.

III. Data

OMB Control Number: 0648-0318.

Form Number(s): None.

Type of Review: Regular submission (extension of a current information collection).

Affected Public: Individuals or households; Business or other for-profit organizations.

Estimated Number of Respondents: 875.

Estimated Time per Response: Observer Notification: 2 minutes; Industry Request for Assistance in Improving Observer Data Quality Issues: 30 minutes; Pre-cruise meeting notification: 5 minutes; Catcher/processor request to be placed in Partial Observer Coverage: 30 minutes; Request to be placed in the Full Observer Coverage Category: 5 minutes; Request to be placed in or removed from the EM selection pool: 5 minutes; Observer Declare and Deploy System (ODDS) Log a fishing trip: 15 minutes; Deck Safety Plan—Initial Year: 12 hours; Deck Safety Plan—Annual Renewal: 1 hour; Deck Sorting Safety Meeting: 15 minutes; Vessel Monitoring Plan: 48 hours; Closing EM trips in ODDS: 5 minutes; Submit EM Data to NMFS: 1 hour; Observer Provider Permit Application: 60 hours.

Estimated Total Annual Burden Hours: 16,603 hours.

Estimated Total Annual Cost to Public: $1,185.

Respondent's Obligation: Mandatory; Required to Obtain or Retain Benefits.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-22142 Filed 10-8-21; 8:45 am]

BILLING CODE 3510-22-P